DEPARTMENT OF COMMERCE

Foreign-Trade Zones Board

[Docket 4-2005]

Foreign-Trade Zone 74—Baltimore, MD; Application for Expansion

An application has been submitted to the Foreign-Trade Zones Board (the Board) by the Baltimore Development Corporation, on behalf of the City of Baltimore, Maryland, grantee of FTZ 74, requesting authority to expand and reorganize its zone in the Baltimore, Maryland area, within the Baltimore Customs port of entry. The application was submitted pursuant to the provisions of the Foreign-Trade Zones Act (19 U.S.C. 81a-81u), and the regulations of the Board (15 CFR part 400). It was formally filed on January 7, 2005.

FTZ 74 was approved by the Board on January 21, 1982 (Board Order 183, 47 FR 5737; 2/8/82) and expanded on January 31, 1989 (Board Order 427, 54 FR 5992; 2/7/89) and April 5, 2001 (Board Order 1157, 66 FR 19423; 4/16/01). FTZ 74 currently consists of eleven sites (1,464 acres) in the Baltimore, Maryland, area:

Site 1—(20 acres) Holabird Industrial Park,

Site 2—(127 acres) within the Point Breeze Business Center, 2500 Broening Highway, adjacent to the Dundalk Marine Terminal,

Site 3—(157 acres) within the Seagirt Marine Terminal,

Site 3a—(14 acres) at 1200 South Newkirk Street (expires 4/1/06),

Site 3b—(2 acres) at 4200 Boston Street (expires 4/1/06),

Site 4—(272 acres) Dundalk Marine Terminal,

Site 4a—(40 acres) contiguous to the eastern border of Site 4 (expires 7/1/05),

Site 5—(97 acres) Chesapeake Terminal and American Port Services Center,

Site 6—(274 acres) Atlantic and Fairfield Terminals,

Site 7—(196 acres) North & South Locust Point Terminals,

Site 8—(157 acres) Rukert and Clinton Street Marine Terminals,

Site 9—(15 acres) Belt's Business Center, 600 Folcroft Street,

Site 10—(81 acres) Pulaski Business Park, 6200 Pulaski Highway,

Site 11—(12 acres) Obrecht Business Center, 6200 Frankford Avenue.

The applicant is now requesting authority to update, expand and reorganize the zone and to add three new sites as described below. The proposal includes a request to restore zone status to parcels located within the existing or proposed zone sites that had been deleted from the zone boundary in earlier changes.

Site 4—Make Site 4a permanent and combine it with Site 4 increasing the size of Site 4, located on Broening Highway, Baltimore, to 312 acres;

Site 12—Add a new site, designated as Site 12, that would involve the 32-acre Canton Trade Center. The site would include existing Sites 3a and 3b (16 acres), which would be made permanent, and a new 16-acre parcel adjacent to Newkirk and Boston Streets;

Site 13—Add new Site 13 (100 acres) consisting of the Marley Neck Industrial Park located at 6600 Cabot Drive, Baltimore, Anne Arundel County;

Site 14—Add new Site 14 (91 acres) consisting of the Enterprise Business Park located at 1501 Perryman Road, Perryman, Harford County.

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses below:

1. Submissions via Express/Package Delivery Services: Foreign-Trade Zones Board, U.S. Department of Commerce, Franklin Court Building-Suite 4100W, 1099 14th Street, NW., Washington, DC 20005; or

2. Submissions via U.S. Postal Service: Foreign Trade Zones Board, U.S. Department of Commerce, FCB-4100W, 1401 Constitution Ave., NW., Washington, DC 20230.

The closing period for their receipt is March 21, 2005. Rebuttal comments in response to material submitted during the foregoing period may be submitted during the subsequent 15-day period (to April 4, 2005).

A copy of the application will be available for public inspection at the Office of the Foreign-Trade Zones Board's Executive Secretary at address No. 1 listed above and at the U.S. Department of Commerce Export Assistance Center, 401 E. Pratt Street, Suite 2432, Baltimore, MD 21202.

Dated: January 11, 2005.
Dennis Puccinelli,
Executive Secretary.

[FR Doc. 05-1041 Filed 1-18-05; 8:45 am]

BILLING CODE 3510-DS-P